PENSION BENEFIT GUARANTY CORPORATION

Proposed Submission of Information Collection for OMB Review; Comment Request; Survey of Frozen Defined Benefit Pension Plans

AGENCY: Pension Benefit Guaranty Corporation.

ACTION: Notice of request for OMB approval.

SUMMARY: The Pension Benefit Guaranty Corporation intends to request that the Office of Management and Budget approve a new collection of information under the Paperwork Reduction Act. The purpose of the information collection, which will be conducted via a mail survey, is to help the PBGC assess the extent to which the plans it insures have been frozen, the intentions of the plans' sponsors regarding those frozen plans, and the extent to which plan sponsors are considering freezing plans that are not frozen. The effect of this notice is to advise the public of, and to solicit public comment on, this proposed collection of information.

DATES: Comments should be submitted by August 17, 2004.

ADDRESSES: Comments may be mailed to the Office of the General Counsel, Pension Benefit Guaranty Corporation, 1200 K Street, NW., Washington, DC 20005-4026, or delivered to Suite 340 at that address during normal business hours. Comments also may be submitted electronically through the PBGC's Web site at http://www.pbgc.gov/paperwork, or by fax to (202) 326-4112. The PBGC will make all comments available on its Web site, http://www.pbgc.gov.

Copies of the collection of information may be obtained without charge by writing to the PBGC's Communications and Public Affairs Department at Suite 240 at the above address or by visiting that office or calling (202) 326-4040 during normal business hours. (TTY and TDD users may call the Federal relay service toll-free at 1-800-877-8339 and ask to be connected to (202) 326-4040.)

FOR FURTHER INFORMATION CONTACT: James L. Beller, Attorney, Office of the General Counsel, PBGC, 1200 K Street, NW., Washington, DC 20005-4026; (202) 326-4024. (TTY and TDD users may call the Federal relay service toll-free at 1-800-877-8339 and ask to be connected to (202) 326-4024.)

SUPPLEMENTARY INFORMATION: The PBGC intends to request that OMB approve a mail survey designed to gather information about frozen defined benefit plans. Findings about these plans' characteristics, sponsor rationales for freezing these plans, sponsor intentions to either terminate or unfreeze these plans, and sponsor intentions to freeze plans that are not frozen will allow the PBGC to better forecast future trends in the plans it insures. In addition, the Government Accounting Office has recommended that the PBGC “conduct a pilot study to identify frozen [defined benefit] plans it insures and assess the usefulness of information on the characteristics and consequences of plan freezes.” This collection of information would address that recommendation.

Participation in this voluntary collection of information will put a slight burden on a very small percentage of the public. The PBGC estimates that there will be 400 respondents with an annual burden of approximately 180 hours and $5,500. An agency may not conduct or sponsor, and a person is not required to respond to, a collection of information unless it displays a currently valid OMB control number.

The PBGC is specifically seeking public comment to:

(1) Evaluate whether the proposed collection of information is necessary for the proper performance of the functions of the agency, including whether the information will have practical utility;

(2) Evaluate the accuracy of the estimate of burden to the proposed collection of information, including the validity of the methodology and assumptions used;

(3) Enhance the quality, utility, and clarity of the information to be collected; and

(4) Minimize the burden of the collection of information on those who are able to respond, including through the use of appropriate automated, electronic, mechanical, or other technological collection techniques or other forms of information technology.

Issued in Washington, DC, this 10th day of June, 2004.
Stuart Sirkin,
Director, Corporate Policy and Research Department, Pension Benefit Guaranty Corporation.

[FR Doc. 04-13783 Filed 6-17-04; 8:45 am]

BILLING CODE 7708-01-P